NATIONAL AERONAUTICS AND SPACE ADMINISTRATION

[Notice: (14-116)]

NASA Advisory Council; Aeronautics Committee; Meeting

AGENCY: National Aeronautics and Space Administration.

ACTION: Notice of Meeting.

SUMMARY: In accordance with the Federal Advisory Committee Act, Public Law 92-463, as amended, the National Aeronautics and Space Administration (NASA) announces a meeting of the Aeronautics Committee of the NASA Advisory Council. The meeting will be held for the purpose of soliciting, from the aeronautics community and other persons, research and technical information relevant to program planning.

DATES: Thursday, December 4, 2014, 9:00 a.m. to 3:45 p.m.; Local Time.

ADDRESSES: NASA Ames Research Center, NASA Ames Conference Center, Building 3, 500 Severyns Road, NASA Research Park, Moffett Field, California 95035-1000.

FOR FURTHER INFORMATION CONTACT: Ms. Susan L. Minor, Executive Secretary for the Aeronautics Committee, NASA Headquarters, Washington, DC 20546, (202) 358-0566, or susan.l.minor@nasa.gov. Any person interested in participating in the meeting by Webex and telephone should contact Ms. Susan L. Minor at (202) 358-0566 for the web link, toll-free number and passcode.

SUPPLEMENTARY INFORMATION: The meeting will be open to the public up to the capacity of the room. The agenda for the meeting includes the following topics:

• NASA Ames Research Center Overview

• Verification and Validation Research Update

• Umanned Aircraft Systems (UAS) Traffic Management

• Federal Aviation Administration UAS Center of Excellence overview

• NASA Aeronautics Research Mission Directorate Strategic Implementation Plan Discussion

Attendees will be requested to comply with NASA Ames Research Center security requirements, including the presentation of a valid picture ID before receiving an access badge. U.S. Citizens will need to show valid, officially-issued picture identification such as driver's license to enter into the NASA Research Park, and must state they are attending the NASA Advisory Council Aeronautics Committee session in the NASA Ames Conference Center. Permanent Residents (green card holders) will need to show residency status (valid green card) and must state they are attending the Aeronautics Committee session in the NASA Ames Conference Center. Foreign Nationals must submit, no less than 10 working days prior to the meeting, their full name, gender, current address, citizenship, company affiliation (if applicable) to include address, telephone number, and their title, place of birth, date of birth, U.S. visa information to include type, number and expiration date, U.S. Social Security Number (if applicable), and an electronically scanned or faxed copy of their passport and visa via email to carolina.rudisel@nasa.gov or fax to 650-604-6104. For questions, please contact Ms. Carolina Rudisel, Protocol Specialist, Office of the Center Director, NASA Ames Research Center, Moffett Field, CA at (650) 604-2476 or carolina.rudisel@nasa.gov. It is imperative that these meetings be held on this date to accommodate the scheduling priorities of the key participants.

Patricia D. Rausch,
Advisory Committee Management Officer, National Aeronautics and Space Administration.

[FR Doc. 2014-26993 Filed 11-13-14; 8:45 am]

BILLING CODE 7510-13-P